DEPARTMENT OF ENERGY

10 CFR Part 430

[Docket No. EERE-2013-BT-DET-0035]

RIN 1904-AD04

Energy Conservation Program for Consumer Products and Certain Commercial and Industrial Equipment: Proposed Determination of Computer and Battery Backup Systems as a Covered Consumer Product

AGENCY: Office of Energy Efficiency and Renewable Energy, Department of Energy.

ACTION: Notice of extension of public comment period.

SUMMARY: This document announces an extension of the time period for submitting comments on the proposed determination of coverage for computer and battery backup systems (hereafter referred to as “computer systems”). The comment period is extended to April 15, 2014.

DATES: The comment period for the proposed determination of coverage relating to computer systems published on February 28, 2014 (79 FR 11345) is extended to April 15, 2014.

ADDRESSES: Interested persons may submit comments, identified by docket number EERE-2013-BT-DET-0035, by any of the following methods:

• Federal eRulemaking Portal: www.regulations.gov. Follow the instructions for submitting comments.

• Email: Computers2013DET0035@ee.doe.gov. Include EERE-2013-BT-DET-0035 and/or RIN 1904-AD04 in the subject line of the message.

• Mail: Ms. Brenda Edwards, U.S. Department of Energy, Building Technologies Office, Mailstop EE-5B, Proposed Determination for computers, EERE-2013-BT-DET-0035 and/or RIN 1904-AD04, 1000 Independence Avenue SW., Washington, DC 20585-0121. Phone: (202) 586-2945. Please submit one signed paper original.

• Hand Delivery/Courier: Ms. Brenda Edwards, U.S. Department of Energy, Building Technologies Office, 6th Floor, 950 L'Enfant Plaza SW., Washington, DC 20024. Phone: (202) 586-2945. Please submit one signed paper original.

Instructions: All submissions received must include the agency name and docket number or RIN for this rulemaking.

Docket: For access to the docket to read background documents or comments received, go to the Federal eRulemaking Portal at http://www.regulations.gov.

FOR FURTHER INFORMATION CONTACT: Mr. Jeremy Dommu, U.S. Department of Energy, Office of Energy Efficiency and Renewable Energy, Building Technologies Office, EE-5B, 1000 Independence Avenue SW., Washington, DC 20585-0121. Telephone: (202) 586-9870. Email: DOE_computer_standards@ee.doe.gov.

In the Office of General Counsel, contact Ms. Celia Sher, U.S. Department of Energy, Office of the General Counsel, GC-71, 1000 Independence Avenue SW., Washington, DC 20585-0121. Telephone: (202) 287-6122. Email: Celia.Sher@hq.doe.gov.

SUPPLEMENTARY INFORMATION: On February 28, 2014, DOE published an updated notice of proposed determination (NOPD) in the Federal Register (79 FR 11345) to determine that computer systems meet the criteria for classification as a covered product under the Energy Policy and Conservation Act, as amended (EPCA, 42 U.S.C 6291, et seq.). The NOPD provided for the submission of comments from interested parties by March 31, 2014. Thereafter, interested parties requested an extension of the comment period. The Information Technology Industry Council (ITI) stated that they wanted to provide clear guidance and propose definitions related to the scope of coverage for this rulemaking. The Consumer Electronics Association (CEA) stated additional time will enable them to complete and reference findings from their latest comprehensive energy use study in the comments, and gather additional feedback from impacted CEA members concerning scope and product classifications.

Based on ITI and CEA's requests, DOE determines that an extension of the public comment period to allow additional time for interested parties to submit comments is appropriate. Therefore, DOE is extending the comment period until April 15, 2014 to provide interested parties additional time to prepare and submit comments. Accordingly, DOE will consider any comments received by April 15, 2014 to be timely submitted.

Issued in Washington, DC, on March 26, 2014.
Kathleen B. Hogan,
Deputy Assistant Secretary for Energy Efficiency, Energy Efficiency and Renewable Energy.

[FR Doc. 2014-07361 Filed 4-2-14; 8:45 am]

BILLING CODE 6450-01-P